DEPARTMENT OF TRANSPORTATION

Federal Aviation Administration

14 CFR Part 39

[Docket No. FAA-2014-0061; Directorate Identifier 2013-NM-029-AD; Amendment 39-17949; AD 2014-16-25]

RIN 2120-AA64

Airworthiness Directives; Airbus Airplanes

AGENCY: Federal Aviation Administration (FAA), Department of Transportation (DOT).

ACTION: Final rule.

SUMMARY: We are superseding Airworthiness Directive (AD) 2007-06-12 for certain Airbus Model A330-200 and A330-300 airplanes. This new AD reduces the compliance times for reinforcing the structure of the center fuselage. This AD was prompted by a new fatigue and damage tolerance evaluation that revealed the compliance time for an existing reinforcement of the fuselage has to be reduced. We are issuing this AD to prevent fatigue cracking of the fuselage, which could result in reduced structural integrity of the fuselage.

DATES: This AD becomes effective October 8, 2014.

The Director of the Federal Register approved the incorporation by reference of certain publications listed in this AD as of October 8, 2014.

ADDRESSES: You may examine the AD docket on the Internet at http://www.regulations.gov/#!docketDetail;D=FAA-2014-0061; or in person at the Docket Management Facility, U.S. Department of Transportation, Docket Operations,M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2007-06-12, Amendment 39-14993 (72 FR 12555, March 16, 2007). AD 2007-06-12 applied to certain Airbus Model A330-200 and A330-300 airplanes. The NPRM published in the Federal Register on February 27, 2014 (79 FR 11016).

The European Aviation Safety Agency (EASA), which is the Technical Agent for the Member States of the European Community, has issued EASA Airworthiness Directive 2013-0016, dated January 16, 2013 (referred to after this as the Mandatory Continuing Airworthiness Information, or “the MCAI”), to correct an unsafe condition for certain Airbus Model A330-200 and A330-300 airplanes. The MCAI states:

During the fatigue tests (EF2) of the Airbus A330 test fuselage, initiation and development of cracks were evidenced at the circumferential joint of frame 53.3.

This condition, if not corrected, could lead to a reduction in the structural integrity of the fuselage.

EASA issued AD 2006-0266 [(http://ad.easa.europa.eu/blob/easa_ad_2006_0266_Superseded.pdf/AD_2006-0266_1), which corresponds to FAA AD 2007-06-12, Amendment 39-14993 (72 FR 12555, March 16, 2007)], which took over the requirements of Direction Générale de L'aviation Civile [DGAC] France AD F-2003-415 for A330-300 pre-mod 41652S11819, and required reinforcement of the circumferential joint of frame 53.3 by application of Airbus Service Bulletin (SB) A330-53-3143 on A330-300 post modification 41652S11819 and pre-mod 49202, and all A330-200 pre-mod 49202 in order to improve the fatigue life.

Since that [EASA] AD was issued, in the frame of a new fatigue and damage tolerance evaluation taking into account the aeroplane utilisation, the thresholds for the reinforcement were reassessed and the conclusion is that some thresholds must be reduced.

For the reason described above, this [EASA] AD retains the requirements of EASA AD 2006-0266, which is superseded, and requires reinforcement of structure of the centre fuselage at the upper circumferential joint of frame 53.3 within the new thresholds.

You may examine the MCAI in the AD docket on the Internet at http://www.regulations.gov/#!documentDetail;D=FAA-2014-0061-0002.

Comments

We gave the public the opportunity to participate in developing this AD. We received no comments on the NPRM (79 FR 11016, February 27, 2014) or on the determination of the cost to the public.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 11016, February 27, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 11016, February 27, 2014) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by the State of Design Authority for the DAH throughout this AD.

Conclusion

We reviewed the relevant data and determined that air safety and the public interest require adopting this AD with the changes described previously and minor editorial changes. We have determined that these minor changes:

• Are consistent with the intent that was proposed in the NPRM (79 FR 11016, February 27, 2014) for correcting the unsafe condition; and

• Do not add any additional burden upon the public than was already proposed in the NPRM (79 FR 11016, February 27, 2014).

We also determined that these changes will not increase the economic burden on any operator or increase the scope of this AD.

Costs of Compliance

We estimate that this AD affects 9 airplanes of U.S. registry.

We estimate that it will take about 327 work-hours per product to comply with the new basic requirements of this AD. The average labor rate is $85 per work-hour. Required parts will cost about $17,850 per product. Based on these figures, we estimate the cost of this AD on U.S. operators to be up to $410,805, or up to $45,645 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0061; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-06-12, Amendment 39-14993 (72 FR 12555, March 16, 2007), and adding the following new AD:

2014-16-25 Airbus: Amendment 39-17949. Docket No. FAA-2014-0061; Directorate Identifier 2013-NM-029-AD.

(a) Effective Date

This AD becomes effective October 8, 2014.

(b) Affected ADs

This AD replaces AD 2007-06-12, Amendment 39-14993 (72 FR 12555, March 16, 2007).

(c) Applicability

This AD applies to Airbus Model A330-201, -202, -203, -223, and -243 airplanes; and Model A330-301, -321, -322, -323, -341, -342, and -343 airplanes, certificated in any category, except those on which Airbus Modification 49202 has been embodied in production.

(d) Subject

Air Transport Association (ATA) of America Code 53, Fuselage.

(e) Reason

This AD was prompted by a new fatigue and damage tolerance evaluation that concluded the compliance time for an existing reinforcement of the fuselage has to be reduced. We are issuing this AD to prevent fatigue cracking of the fuselage, which could result in reduced structural integrity of the fuselage.

(f) Compliance

Comply with this AD within the compliance times specified, unless already done.

(g) Installation for Model A330-300 Series Airplanes

For Airbus Model A330-301, A330-321, A330-322, A330-323, A330-341, A330-342, and A330-343 airplanes, except those on which Airbus Modification 41652S11819 has been incorporated in production: At the time specified in paragraph (g)(1) or (g)(2) of this AD, whichever occurs later, install butt straps at FR53.3 on the fuselage skin between left-hand (LH) and right-hand (RH) stringer (STR) 13, and do all related investigative and corrective actions before further flight. Except as provided by paragraph (h) of this AD, do all actions in accordance with the Accomplishment Instructions of Airbus Service Bulletin A330-53-3127, Revision 02, including Appendix 01, dated December 7, 2011.

(1) At the applicable time specified in paragraph (g)(1)(i) or (g)(1)(ii) of this AD.

(i) For airplanes with a short-range mission as specified in Airbus Service Bulletin A330-53-3127, Revision 02, including Appendix 01, dated December 7, 2011: Within 15,300 flight cycles or 46,100 flight hours, whichever occurs first, after the first flight of the airplane.

(ii) For airplanes with a long-range mission as specified in Airbus Service Bulletin A330-53-3127, Revision 02, including Appendix 01, dated December 7, 2011: Within 13,200 flight cycles or 79,300 flight hours, whichever occurs first after the first flight of the airplane.

(2) Within 24 months after the effective date of this AD, but not to exceed 14,700 total flight cycles or 51,400 total flight hours, whichever occurs earlier.

(h) Corrective Actions

For Airbus Model A330-301, -321, -322, -323, -341, -342, and -343 airplanes, except those on which Airbus Modification 41652S11819 has been incorporated in production: If any crack is detected during the related investigative actions (rototest) required by paragraph (g) of this AD, before further flight, repair using a method approved by the Manager, International Branch, ANM-116, Transport Airplane Directorate, FAA; or the European Aviation Safety Agency (EASA); or Airbus's EASA Design Organization Approval (DOA). If approved by the DOA, the approval must include the DOA-authorized signature.

(i) Installation for Model A330-200 and -300 Series Airplanes

For airplanes specified in paragraph (c) of this AD on which Airbus Modification 41652S11819 has been embodied in production: At the time specified in paragraph (i)(1) or (i)(2) of this AD, whichever occurs later, install butt straps at FR53.3 on the fuselage skin between LH and RH STR13; and do all related investigative and other specified actions before further flight, as applicable. Do all actions in accordance with the Accomplishment Instructions of Airbus Service Bulletin A330-53-3143, Revision 05, dated May 29, 2012, including Appendix 1; except, if any crack is detected during a related investigative action (rototest), before further flight, repair the crack using a method approved by the Manager, International Branch, ANM-116, Transport Airplane Directorate, FAA; or the European Aviation Safety Agency (EASA); or Airbus's EASA Design Organization Approval (DOA). If approved by the DOA, the approval must include the DOA-authorized signature.

(1) At the applicable times specified in the “threshold” column of the table in 1.E. “Compliance” of Airbus Service Bulletin A330-53-3143, Revision 05, including Appendix 01, dated May 29, 2012. Where paragraph 1.E. “Compliance” of Airbus Service Bulletin A330-53-3143, Revision 05, dated May 29, 2012, specifies a time in the “threshold” column, this AD requires compliance within the corresponding times after the first flight of the airplane.

(2) Within 24 months after the effective date of this AD, but not to exceed 17,600 total flight cycles or 61,600 total flight hours, whichever occurs earlier.

(j) Credit for Previous Actions

(1) This paragraph provides credit for actions required by paragraph (g) of this AD if those actions were performed before the effective date of this AD using Airbus Service Bulletin A330-53-3127, Revision 01, including Appendix 01, dated November 21, 2003, which was incorporated by reference in AD 2005-20-07, Amendment 39-14300 (70 FR 57732, October 4, 2005).

(2) This paragraph provides credit for actions required by paragraph (i) of this AD if those actions were performed before the effective date of this AD using any service information specified in paragraphs (j)(2)(i) through (j)(2)(v) of this AD.

(i) Airbus Service Bulletin A330-53-3143, including Appendix 01, dated December 24, 2004, which is not incorporated by reference in this AD.

(ii) Airbus Service Bulletin A330-53-3143, Revision 01, including Appendix 01, dated June 29, 2006, which was incorporated by reference in AD 2007-06-12, Amendment 39-14993 (72 FR 12555, March 16, 2007).

(iii) Airbus Service Bulletin A330-53-3143, Revision 02, including Appendix 01, dated August 31, 2010, which is not incorporated by reference in this AD.

(iv) Airbus Service Bulletin A330-53-3143, Revision 03, including Appendix 01, dated March 3, 2011, which is not incorporated by reference in this AD.

(v) Airbus Service Bulletin A330-53-3143, Revision 04, including Appendix 01, dated December 6, 2011, which is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2007-06-12, Amendment 39-14993 (72 FR 12555, March 16, 2007), are approved as AMOCs for the corresponding provisions of paragraph (i) of this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

(1) Refer to Mandatory Continuing Airworthiness Information (MCAI) EASA Airworthiness Directive 2013-0016, dated January 16, 2013, for related information. You may examine the MCAI in the AD docket on the Internet at http://www.regulations.gov/#!documentDetail;D=FAA-2014-0061-0002.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-53-3127, Revision 02, dated December 7, 2011, including Appendix 01.

(ii) Airbus Service Bulletin A330-53-3143, Revision 05, dated May 29, 2012, including Appendix 01.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 7, 2014.
Victor Wicklund,
Acting Manager, Transport Airplane Directorate, Aircraft Certification Service.

[FR Doc. 2014-19725 Filed 9-2-14; 8:45 am]

BILLING CODE 4910-13-P